DEPARTMENT OF AGRICULTURE

Animal and Plant Health Inspection Service

7 CFR Part 301

[Docket No. APHIS-2010-0089]

Plum Pox Virus; Update of Quarantined Areas

AGENCY: Animal and Plant Health Inspection Service, USDA.

ACTION: Final rule.

SUMMARY: We are adopting as a final rule, with one change, an interim rule that amended the plum pox virus (PPV) regulations by removing portions of Adams County, PA, from the list of quarantined areas and by adding portions of Niagara, Orleans, and Wayne Counties, NY, to the list of quarantined areas and restricted the interstate movement of regulated articles from these quarantined areas. The interim rule was necessary to prevent the spread of PPV from the quarantined areas of New York to uninfected areas of the United States and to relieve restrictions in Pennsylvania that are no longer necessary.

DATES: Effective Date: May 11, 2011.

FOR FURTHER INFORMATION CONTACT: Dr. S. Anwar Rizvi, Senior Plant Pathologist/National Program Manager, Plant Pathogen and Weed Programs, EDP, PPQ, APHIS, 4700 River Road Unit 160, Riverdale, MD 20737; (301) 734-4313.

SUPPLEMENTARY INFORMATION:

Background

The plum pox virus (PPV) is an extremely serious viral disease of plants that can affect many Prunus (stone fruit) species, including plum, peach, apricot, almond, nectarine, and sweet and tart cherry. Infection eventually results in severely reduced fruit production, and the fruit that is produced is often misshapen and blemished. PPV is transmitted under natural conditions by several species of aphids. The long-distance spread of PPV occurs by budding and grafting with infected plant material and through movement of farm tools, equipment, and infected budwood, nursery stock, and other plant parts.

The regulations in “Subpart—Plum Pox” (7 CFR 301.74 through 301.74-5, referred to below as the regulations) quarantine areas of the United States where PPV has been detected and restrict the interstate movement of regulated articles from quarantined areas to prevent the spread of PPV into uninfected areas of the United States.

In an interim rule ¹ that became effective upon publication in the Federal Register on December 27, 2010 (75 FR 81087-81089, Docket No. APHIS-2010-0089), we amended the regulations by adding portions of Niagara, Orleans, and Wayne Counties, NY, to the list of quarantined areas and removing the townships of Latimore and Huntington in Adams County, PA, from that list.

¹ To view the interim rule, go to http://www.regulations.gov/fdmspublic/component/main?main=DocketDetail&d=APHIS-2010-0089.

Comments on the interim rule were required to be received on or before February 25, 2011. We did not receive any comments by that date.

In the interim rule, we incorrectly described one of the borders of the quarantined area in the Town of Sodus in Wayne County. Therefore, in this final rule, we are amending § 301.74-3(c), under New York for the entry Wayne County, paragraph (3), to correct the description of that quarantined area.

Therefore, for the reasons given in the interim rule and this document, we are adopting the interim rule as a final rule, with the change discussed in this document.

This final rule also affirms the information contained in the interim rule concerning Executive Order 12866 and the Regulatory Flexibility Act, Executive Orders 12372 and 12988, and the Paperwork Reduction Act.

Further, for this action, the Office of Management and Budget has waived its review under Executive Order 12866.

Effective Date

Pursuant to the administrative procedure provisions in 5 U.S.C. 553, we find good cause for making this rule effective less than 30 days after publication in the Federal Register. The interim rule adopted as final by this rule became effective on December 27, 2010. This rule corrects the description of the quarantined area in the interim rule. Immediate action is necessary to ensure that the description of the quarantined area is accurate in order to prevent the artificial spread of PPV to uninfected areas of the United States. Therefore, the Administrator of the Animal and Plant Health Inspection Service has determined that this rule should be effective upon publication in the Federal Register.

List of Subjects in 7 CFR Part 301

Agricultural commodities, Plant diseases and pests, Quarantine, Reporting and recordkeeping requirements, Transportation.

Accordingly, the interim rule amending 7 CFR part 301 that was published at 75 FR 81087-81089 on December 27, 2010, is adopted as a final rule with the following change:

PART 301—DOMESTIC QUARANTINE NOTICES

1. The authority citation for part 301 continues to read as follows:

Authority: 7 U.S.C. 7701-7772 and 7781-7786; 7 CFR 2.22, 2.80, and 371.3.

Section 301.75-15 issued under Sec. 204, Title II, Pub. L. 106-113, 113 Stat. 1501A-293; sections 301.75-15 and 301.75-16 issued under Sec. 203, Title II, Pub. L. 106-224, 114 Stat. 400 (7 U.S.C. 1421 note).

2. In § 301.74-3, paragraph (c), under the heading “New York,” in the entry for Wayne County, paragraph (3) is revised to read as follows:

§ 301.74-3 Quarantined areas.

* * * * *

New York

* * * * *

(c) Wayne County. * * *

(3) That area of Wayne County in the Town of Sodus beginning on the Sodus Bay shoreline at Ridge Road; then west on Ridge Road to Boyd Road; then north on Boyd Road to Sergeant Road; then north on Sergeant Road to Morley Road; then east on Morley Road to State Route 14; then north on State Route 14 to South Shore Road; then east on South Shore Road and continuing to the shoreline of Sodus Bay.

Done in Washington, DC, this 4th day of May 2011.
Kevin Shea,
Acting Administrator, Animal and Plant Health Inspection Service.

[FR Doc. 2011-11489 Filed 5-10-11; 8:45 am]

BILLING CODE 3410-34-P